DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer at (240) 276-0166.

Project: State Opioid Response (SOR)/Tribal Opioid Response (TOR) Program Instrument (OMB No. 0930-0384)—Revision

SAMHSA is requesting approval to modify its existing SOR/TOR Program Instrument by (1) broadening language from `naloxone' to `naloxone and other opioid overdose reversal medications' due to the availability of new FDA-approved non-naloxone overdose reversal medications; (2) broadening language from `fentanyl test strips' to `drug checking technologies as directed by SAMHSA due to the availability of new drug checking technology, including test strips for other emerging substances; (3) adding five questions to collect treatment and recovery support data that were previously reported biannually in the performance progress reports; (4) adding one question to collect data on clients who received contingency management for the treatment of stimulant use disorder; (5) adding a sub-recipient entity inventory table to collect expenditure data for each grant sub-recipient in response to the Consolidated Appropriations Act, 2023 (42 U.S.C. 300x-52(a)); (6) combining four questions with similar themes into two questions for clarity; (7) removing question 12 because it is comprised of more than one question with several different ideas, making it unsuited for this instrument; and (8) adding one question at the request of the Office of National Drug Control Policy (ONDCP) to collect information on Congressionally mandated and programmatic activities, and to comply with reporting requirements. The program-level information is collected quarterly for questions 1 to 13b, and annually for the sub-recipient entity inventory table, and entered and stored in SAMHSA's Performance Accountability and Reporting System (SPARS), which is a real-time, performance management system that captures information on the SAMHSA-funded substance use and substance use disorder prevention, harm reduction, treatment, and recovery support services, and mental health services delivered in the United States. Continued approval of this information collection will allow SAMHSA to continue to meet Government Performance and Results Modernization Act of 2010 reporting requirements that quantify the effects and accomplishments of its discretionary grant programs.

The SOR/TOR programs are authorized under the Further Consolidated Appropriations Act, 2024, Division D, Title II, and section 1003 of the 21st Century Cures Act [Public Law 114-255] (42 U.S.C. 290ee-3a), as amended. SAMHSA anticipates 189 recipients (states, territories, and tribal entities) will participate in these grant programs. Grantee-level data will include information related to: reported overdose reversals; the purchase and distribution of naloxone and other opioid overdose reversal medications; types of entities that distribute naloxone and other opioid overdose reversal medications; training on recognizing an opioid overdose and appropriate use of naloxone and other opioid overdose reversal medications; implementation of prevention and education activities; the purchase and distribution of drug checking technologies as directed by SAMHSA; treatment services for opioid use disorder (OUD) and stimulant use disorder; types of recovery support services; and the expenditure amounts for each SOR and TOR grant sub-recipient. This grantee-level information will be collected quarterly for questions 1 to 13b, and annually for the sub-recipient entity inventory table.

The revisions to the tool will continue to enable SAMHSA to better assess grantee accountability and performance on the required prevention, education, harm reduction, treatment, and recovery support activities for the SOR/TOR programs. The revisions will continue to assist SAMHSA in providing comprehensive data on the full range of required activities to inform Congressionally mandated reports for the SOR program.

The Center for Substance Abuse Treatment (CSAT) anticipates that the time required to collect and report the program-level information is approximately 33 minutes per response. Since the submission of the previous OMB package, there has been an increase in the number of respondents. The estimated burden associated with the program-level instrument includes an adjustment to reflect the current number of grantees.

Table 1—Estimate of Annualized Hour Burden for SOR/TOR Grantees
SAMHSA data collection | Number of respondents | Responses per respondent | Total number of responses | Burden hours per response | Total burden hours | Hourly wage ¹ | Total wage cost
Grantee-Level Instrument | 189 | 4 | 756 | .30 | 226.80 | $28.89 | $6,552.25
Grantee-Level Instrument | 189 | 1 | 189 | .25 | 47.25 | 28.89 | 1,365.05
Total | 378 | 5 | 945 | .55 | 274.05 | 28.89 | 7,917.30
¹ The hourly wage estimate is $28.89 based on the Occupational Employment and Wages, Mean Hourly Wage Rate for 21-1018 Substance Abuse, Behavioral Disorder, and Mental Health Counselors= $28.89/hr. as of May 2023 (https://www.bls.gov/oes/current/oes211018.htm Accessed on September 23, 2024.)

Written comments and recommendations for the proposed information collection should be sent within 30 days of publication of this notice to www.reginfo.gov/public/do/PRAMain. Find this particular information collection by selecting “Currently under 30-day Review—Open for Public Comments” or by using the search function.

Krishna Palipudi,
Social Science Analyst.

[FR Doc. 2024-24250 Filed 10-18-24; 8:45 am]

BILLING CODE 4162-20-P